DEPARTMENT OF ENERGY

Federal Energy Regulatory Commission

[Docket No. ER01-906-001, et al.]

Niagara Mohawk Power Corporation, et al.; Electric Rate and Corporate Regulation Filings

May 14, 2001.

Take notice that the following filings have been made with the Commission:

1. Niagara Mohawk Power Corporation

[Docket No. ER01-906-001]

Take notice that on May 8, 2001, Niagara Mohawk Power Corporation, pursuant to the Commission's Letter Order in this proceeding dated February 21, 2000 and the Commission's Order No. 614 tendered for filing acceptance of an amended and restated transmission service agreement with AES NY, L.L.C. (AES) covering certain portions of the transmission service which Niagara Mohawk formerly provided to the New York State Electric & Gas Corporation (NYSEG) under Niagara Mohawk's Rate Schedule No. 165, portions of which were assigned by NYSEG to AES. This amended and restated agreement has been designated as Niagara Mohawk's Rate Schedule No. 313.

Comment date: May 29, 2001, in accordance with Standard Paragraph E at the end of this notice.

2. Great Bay Power Corporation

[Docket No. ER01-1588-001]

Take notice that on May 7, 2001, Great Bay Power Corporation tendered for filing an amendment to its March 21, 2001 filing (Docket No. ER01-1588-000) with a revised service agreement for Select Energy, Inc. under Great Bay's FERC Electric Tariff No. 3, Original Volume No. 1. The revised service agreement is in conformity with Order No. 614, FERC Stats. & Regs. 31,096 (2000).

Comment date: May 29, 2001, in accordance with Standard Paragraph E at the end of this notice.

3. Entergy Services, Inc.

[Docket No. ER01-2010-000]

Take notice that on May 9, 2001, Entergy Services, Inc., on behalf of Entergy Gulf States, Inc., tendered for filing a modified and redesignated Interconnection and Operating Agreement with Hartburg Power, LP (Hartburg), and a redesignated Generator Imbalance Agreement with Hartburg.

Comment date: May 30, 2001, in accordance with Standard Paragraph E at the end of this notice.

4. Ameren Services Company

[Docket No. ER01-2011-000]

Take notice that on May 9, 2001, Ameren Services Company (ASC) tendered for filing Service Agreements for Firm Point-to-Point Transmission Service and Non-Firm Point-to-Point Transmission Service between ASC and Engage Energy America LLC. ASC asserts that the purpose of the Agreements is to permit ASC to provide transmission service to Engage Energy America LLC pursuant to Ameren's Open Access Transmission Tariff.

Comment date: May 30, 2001, in accordance with Standard Paragraph E at the end of this notice.

5. Wisconsin Electric Power Company

[Docket No. ER01-2012-000]

Take notice that on May 9, 2001, Wisconsin Electric Power Company (Wisconsin Electric), tendered for filing an electric service agreement under its Market Rate Sales Tariff (FERC Electric Tariff, Original Volume No. 8) with Dayton Power and Light Company. Wisconsin Electric respectfully requests an effective date of May 2, 2001 to allow for economic transactions.

Wisconsin Electric requests waiver of any applicable notice requirements to allow for the requested effective date as specified.

Copies of the filing have been served on Dayton Power and Light Company, the Michigan Public Service Commission, and the Public Service Commission of Wisconsin.

Comment date: May 30, 2001, in accordance with Standard Paragraph E at the end of this notice.

6. Monroe Power Company

[Docket No. ER01-2013-000]

Take notice that on May 9, 2001, Monroe Power Company (MPC) tendered for filing an executed Service Agreement with Dynegy Power Marketing, Inc. under the provisions of MPC's Market-Based Rates Tariff, FERC Electric Tariff No. 1. MPC is requesting an effective date of June 1, 2001 for this agreement.

Copies of the filing were served upon the North Carolina Utilities Commission, the South Carolina Public Service Commission and the Georgia Public Service Commission.

Comment date: May 30, 2001, in accordance with Standard Paragraph E at the end of this notice.

7. Entergy Services, Inc.

[Docket No. ER01-2014-000]

Take notice that on May 9, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Sempra Energy Resources, Inc.

Comment date: May 30, 2001, in accordance with Standard Paragraph E at the end of this notice.

8. The Detroit Edison Company

[Docket No. ER01-2015-000]

Take notice that on May 9, 2001, The Detroit Edison Company (Detroit Edison) tendered for filing Service Agreements for Wholesale Power Sales Transactions (the Service Agreements) under Detroit Edison's Wholesale Power Sales Tariff (WPS-2), FERC Electric Tariff No. 3 (the WPS-2 Tariff) between Detroit Edison and American Electric Power Service Corporation and between Detroit Edison and Wolverine Power Supply Cooperative.

Comment date: May 30, 2001, in accordance with Standard Paragraph E at the end of this notice.

9. Puget Sound Energy, Inc.

[Docket No. ER01-2016-000]

Take notice that on May 9, 2001, Puget Sound Energy, Inc., as Transmission Provider, tendered for filing an Interconnection and Parallel Operation Agreement with Pierce Power LLC (Pierce). A copy of the filing was served upon Pierce.

Comment date: May 30, 2001, in accordance with Standard Paragraph E at the end of this notice.

10. Ameren Energy Marketing Company

[Docket No. ER01-2017-000]

Take notice that on May 9, 2001, Ameren Energy Marketing Company (AEM) tendered for filing a Voluntary Curtailment Agreement with Central Illinois Public Service Company d/b/a AmerenCIPS (AmerenCIPS) under which AmerenCIPS shall voluntary reduce its load upon notice from AEM requesting voluntary reduction in AmerenCIPS' load. An effective date of June 1, 2001 is requested for the Agreement.

Copies of this filing were served upon AmerenCIPS and the Illinois Commerce Commission.

Comment date: May 30, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers

Secretary

[FR Doc. 01-12635 Filed 5-18-01; 8:45 am]

BILLING CODE 6717-01-P]